Proclamation 9216—World AIDS Day, 2014

Correction

In Presidential document 28560 beginning on page 71953 in the issue of Wednesday, December 3, 2014, make the following correction:

On page 71953, the date following “Proclamation 9216 of” should read “November 28, 2014”.

[FR Doc. C1-2014-28560

Filed 12-5-14; 8:45 am]

Billing Code 1505-01-D